DEPARTMENT OF THE INTERIOR

National Park Service

[NPS-WASO-NRNHL-DTS#-30409; PPWOCRADI0, PCU00RP14.R50000]

National Register of Historic Places; Notification of Pending Nominations and Related Actions

AGENCY: National Park Service, Interior.

ACTION: Notice.

SUMMARY: The National Park Service is soliciting electronic comments on the significance of properties nominated before May 30, 2020, for listing or related actions in the National Register of Historic Places.

DATES: Comments should be submitted electronically by July 1, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before May 30, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

IOWA

Madison County

Winterset High School, 110 West Washington St., Winterset, SG100005339

KENTUCKY

Jefferson County

Nugent House, 845 South 6th St., Louisville, SG100005342

NEBRASKA

Burt County

Fuller, A.B., House, 400 8th St., Decatur, SG100005334

Douglas County

J.F. Bloom & Company, 4411 North 20th St., Omaha, SG100005335

Little Bohemia, Roughly South 13th St. from Hickory St. to 1 block north of William St., Omaha, SG100005336

Holt County

St. Patrick's Catholic Church (Rural Church Architecture in Nebraska MPS), 301 East Benton St., O'Neill, MP100005337

Lincoln County

North Platte Commercial Historic District (Lincoln Highway in Nebraska MPS), South: 4th St. to Front St., Vine St. to Chestnut St. North: 7th St. to 9th St., Vine St. to Dewey St., North Platte, MP100005338

OREGON

Multnomah County

Williams Avenue YWCA (African American Resources in Portland, Oregon, from 1851 to 1973 MPS), 6 North Tillamook St., Portland, MP100005333

SOUTH DAKOTA

Minnehaha County

Jones, E.O. and Etta, House, 835 South Main Ave., Sioux Falls, SG100005340

Todd County

He Dog Consolidated School (Schools in South Dakota MPS), 25300 BIA 4, Parmelee, MP100005331

A request for removal has been made for the following resources:

MICHIGAN

Genesee County

Flint Brewing Company, 2001 Saginaw St., Flint, OT80001854

Fenton Seminary (Genesee County MRA), 309 West High St., Fenton, OT82000508

Iron County

Beechwood Store (Iron County MRA), 215 Beechwood Store Rd., Iron River Township, OT83003662

Marquette County

Sundberg Block, 517-523 Iron St., Negaunee, OT11000196

Authority: Section 60.13 of 36 CFR part 60.

Dated: June 2, 2020.
Sherry A. Frear,
Chief, National Register of Historic Places/National Historic Landmarks Program.

[FR Doc. 2020-12930 Filed 6-15-20; 8:45 am]

BILLING CODE 4312-52-P